DEPARTMENT OF HOMELAND SECURITY

Transportation Security Administration

Extension of Agency Information Collection Activity Under OMB Review: Security Programs for Indirect Air Carriers

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on December 16, 2005, 70 FR 74836.

DATES: Send your comments by March 31, 2006. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Attorney-Advisor, Office of Chief Counsel, TSA-02, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Programs for Indirect Air Carriers.

Type of Request: Extension of a currently approved collection.

OMB Control Number: 1652-0004.

Forms(s): NA.

Affected Public: Indirect air carriers regulated under 49 CFR part 1548.

Abstract: Part 1548 of 14 CFR establishes aviation security requirements for each person (including air freight forwarder and any cooperative shippers' association) engaged, or who intends to be engaged, indirectly in the air transportation of package cargo that is intended for carriage aboard a passenger-carrying air carrier aircraft inside the United States. This collection of information allows TSA to determine compliance with this rule through inspections of each security program and related records to ensure that the contents are current, complete, and correct. This collection directly supports TSA's mission to protect the nation's transportation systems to ensure freedom of movement for people and commerce.

Number of Respondents: 3608.

Estimated Annual Burden Hours: An estimated 1306 hours annually.

Estimated Annual Cost Burden: $56,158.

Lisa S. Dean,
Privacy Officer.

[FR Doc. E6-2922 Filed 2-28-06; 8:45 am]

BILLING CODE 4910-62-P